NEIGHBORHOOD REINVESTMENT CORPORATION

Annual Board of Directors Meeting; Sunshine Act

TIME AND DATE: 3:00 p.m., Monday, June 19, 2017.

PLACE: NeighborWorks America—Gramlich Boardroom, 999 North Capitol Street NE., Washington, DC 20002.

STATUS: Open (with the exception of Executive Sessions).

CONTACT PERSON: Jeffrey Bryson, EVP & General Counsel/Secretary, (202) 760-4101; jbryson@nw.org.

AGENDA:

I. CALL TO ORDER

II. Mission Moment

III. Executive Session: Report from CEO

IV. Executive Session: Internal Audit Report

V. Approval of Minutes

VI. Board Elections

VII. Grants to Capital Corporations

VIII. FY17 Budget Approval

IX. ETMS

X. CounselorMax

XI. Management Program Background and Updates

XII. Adjournment

The General Counsel of the Corporation has certified that in his opinion, one or more of the exemptions set forth in 5 U.S.C. 552 (b)(2) and (4) permit closure of the following portion(s) of this meeting:

• Report from CEO

• Internal Audit Report

Jeffrey T. Bryson,
EVP & General Counsel/Corporate Secretary.

[FR Doc. 2017-12131 Filed 6-7-17; 4:15 pm]

BILLING CODE 7570-02-P